DEPARTMENT OF TRANSPORTATION

Federal Aviation Administration

Notice of Approval of Finding of No Significant Impact (FONSI) on an Environmental Assessment (EA); Quad City International Airport, Moline, IL

AGENCY: Federal Aviation Administration (FAA), DOT.

ACTION: Notice of Approval of Documents.

SUMMARY: The Federal Aviation Administration (FAA) is issuing this notice to advise the public of the approval of a Finding of No Significant Impact (FONSI) on an Environmental Assessment for proposed Federal actions at Quad City International Airport, Molline, Illinois. The FONSI specifies that the proposed federal actions and local development projects are consistent with existing environmental policies and objectives as set forth in the National Environmental Policy Act of 1969 and will not significantly affect the quality of the environment.

A description of the proposed Federal actions is: (a) To issue an environmental finding to allow approval of the Sponsor's Proposed Action/ALP for the development listed above; (b) to issue final airspace determinations for the development listed above, (c) to issue a final determination of potential airspace obstructions to navigable airspace per an aeronautical study outlines under 14 CFR Part 77, (d) to issue a final certification that the proposed aeronautical development is reasonably necessary for use in air commerce or for national defense, (e) issuance of finding for Intergovernmental review of Federal Programs, (f) to include the issuance of an environmental justice finding, (g) to include the issuance of a wetland finding, (h) to include the issuance of a floodplain finding, (i) to include the approval for any necessary funding, installation and/or relocation, certification and operation of navigation aids, and (j) to include any preparation and/or revisions to Standard Instrument Approach Procedures (SIAP).

The items in the local airport development project are to:

Rehabilitate Runway 9-27 and Midfield intersection. Construct, light and mark a 100' x 6,500' temporary Runway 10-28 to be ultimately used as Taxiway P, including grading and drainage. Construct, light and mark connecting Taxiways to temporary Runway 10-28/Taxiway P, including grading and drainage and remove existing connecting Taxiways. Convert temporary Runway 10-28 to Taxiway P, upon decommissioning of temporary runway use, including paved shoulders, marking, lighting, NAVAID relocation and Standard Instrument Approach Procedures (SlAP) decommissioning. Relocate western airport service road outside temporary Runway 10-28's Runway Safety Area, including grading and drainage and remove portion of existing service road. Construct Runway 9-27 paved shoulders, including grading and drainage. Rehabilitate Runway 9-27 lighting. Widen portion of Taxiway K to 75 feet, including lighting, marking, grading and drainage. Install Localizer to temporary Runway 10. Install PAPI's to temporary Runways 10 and 28. Install REIL's to temporary Runways 10 and 28. Relocate temporary Runway 10 28 localizer to Runway 13. Relocate temporary Runway 10-28 PAPI's to Runways 9 and 23. Relocate windsock and segmented circle. Relocate Remote Processing Unit (RPU). Obtain borrow from existing Airport, including tree clearing (southern sites), for Taxiway P. Stockpile borrow material, temporarily, for Taxiway P, if necessary. Create Standard Instrument Approach Procedures (SIAP) for temporary Runways 10 and 28, Runways 13 and 31. Floodplain encroachment of approximately 0.92 acres, covered under Statewide Permit Number 6. Wetland encroachment of approximately 0.07 acres, covered by Nationwide Permit numbers 14 and 33. Construct, light and mark Taxiway N, including grading and drainage. Raze Civil Air Patrol building. Construct Rental Car Quick Turn Around Facility, including fueling and wash facilities, and rental car/employee auto parking expansion, including grading and drainage. Acquire approximately 9 acres of land, in fee simple title, including relocation assistance for two businesses.

Copies of the environmental decision and the EA are available for public information review during regular business hours at the following locations:

1. Quad City International Airport, 2200 69th Avenue, Moline, IL 61265.

2. Division of Aeronautics-Illinois Department of Transportation, One Langhorne Bond Drive, Capital Airport, Springfield, IL 62707.

3. Federal Aviation Administration, Chicago Airports District Office, 2300 East Devon Avenue, Room 320, Des Plaines, Illinois 60018.

FOR FURTHER INFORMATION CONTACT: Amy B. Hanson, Environmental Protection Specialist, Federal Aviation Administration, Chicago Airports District Office, Room 320, 2300 East Devon Avenue, Des Plaines, Illinois 60018. Ms. Hanson can be contacted at (847) 294-7354 (voice), (847) 294-7046 (facsimile) or by E-Mail at amy.hanson@faa.gov.

Issued in Des Plaines, Illinois on May 14, 2008.
Jim Keefer,
Manager, Chicago Airports District Office, FAA, Great Lakes Region.

[FR Doc. E8-11827 Filed 5-28-08; 8:45 am]

BILLING CODE 4910-13-M